DEPARTMENT OF ENERGY

Federal Energy Regulatory Commission

[Docket No. EL16-37-000]

Central Hudson Gas & Electric Corporation; Tucson Electric Power Company; UNS Electric, Inc; UniSource Energy Development Company; Notice of Institution of Section 206 Proceeding and Refund Effective Date

On February 22, 2016, the Commission issued an order in Docket No. EL16-37-000, pursuant to section 206 of the Federal Power Act (FPA), 16 U.S.C. 824e (2012), instituting an investigation into the justness and reasonableness of Central Hudson Gas & Electric Corporation, Tucson Electric Power Company, UNS Electric, Inc. and UniSource Energy Development Company's (collectively Applicants) market based rates in the Tucson Electric balancing authority area. Central Hudson Gas & Electric Corporation, et al., 154 FERC ¶ 61,124 (2016).

The refund effective date in Docket No. EL16-37-000, established pursuant to section 206(b) of the FPA, will be the date of publication of this notice in the Federal Register.

Dated: February 22, 2016.
Nathaniel J. Davis, Sr.,
Deputy Secretary.

[FR Doc. 2016-04153 Filed 2-25-16; 8:45 am]

BILLING CODE 6717-01-P